DEPARTMENT OF THE TREASURY

Office of Foreign Assets Control

Unblocking of Three Specially Designated Nationals Pursuant to Executive Order 13224

AGENCY: Office of Foreign Assets Control, Treasury.

ACTION: Notice.

SUMMARY: The Treasury Department's Office of Foreign Assets Control (“OFAC”) is removing the names of three individuals from the list of Specially Designated Nationals and Blocked Persons whose property and interests in property have been blocked pursuant to Executive Order 13224 of September 23, 2001, Blocking Property and Prohibiting Transactions With Persons Who Commit, Threaten To Commit, or Support Terrorism.

DATES: The removal of the three individuals from the list of Specially Designated Nationals and Blocked Persons whose property and interests in property have been blocked pursuant to Executive Order 13224 is effective as of Tuesday, October 4, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional persons or entities determined to meet certain criteria set forth in Executive Order 13224.

The Department of the Treasury's Office of Foreign Assets Control has determined that the three individuals listed below no longer meet the criteria for designation under the Order and are appropriate for removal from the list of Specially Designated Nationals and Blocked Persons.

The following individuals are removed from the list of Specially Designated Nationals and Blocked Persons:

Individuals:

1. AL-ZARQAWI, Abu Mus'Ab (a.k.a. AL-KHALAYLAH, Ahmad Fadil Nazzal; a.k.a. KHALAILAH, Ahmed Fadeel; a.k.a. KHALAYLEH, Fedel Nazzel; a.k.a. “ ‘ABD AL-KARIM”; a.k.a. “ABU AL-MU'TAZ”; a.k.a. “AL-HABIB”; a.k.a. “AL-MUHAJIR”; a.k.a. “GHARIB”; a.k.a. “MOUHANAD”; a.k.a. “MOUHANNAD”; a.k.a. “MUHANNAD”; a.k.a. “RASHID”); DOB 20 Oct 1966; POB Zarqa, Jordan; citizen Jordan; National ID No. 9661031030 (Jordan); Passport Z264968 (Jordan) (individual) [SDGT]

2. MOUMOU, Mohamed (a.k.a. MUMU, Mohamed; a.k.a. “ ‘ABDALLAH, Abu”; a.k.a. “ABDERRAHMAN, Abou”; a.k.a. “AMINA, Abu”; a.k.a. “SHRAYDA, Abu”), Storvretsvagen 92, 7 TR. C/O Drioua, 142 31 Skogas, Sweden; Dobelnsgatan 97, 7TR C/O Lamrabet, 113 52 Stockholm, Sweden; Jungfruns Gata 413; Postal Address Box: 3027, 13603 Haninge, Sweden; London, United Kingdom; Trodheimsgatan 6, 164 32 Kista, Sweden; DOB 30 Jul 1965; alt. DOB 30 Sep 1965; POB Fez, Morocco; citizen Morocco; alt. citizen Sweden; Passport 9817619 (Sweden) expires 14 Dec 2009 (individual) [SDGT]

3. YANDARBIEV, Zelimkhan Ahmedovich Abdul Muslimovich, Derzhavina Street 281-59, Grozny, Chechen Republic, Russia; DOB 12 Sep 1952; POB Vydriba Eastern Kazakhstan; citizen Russia; Passport 43 No. 1600453 (Russia) (individual) [SDGT]

The removal of the three individuals' names from the list of Specially Designated Nationals and Blocked Persons is effective as of Tuesday, October 4, 2011. All property and interests in property of the three individuals that are in or hereafter come within the United States or the possession or control of United States persons are now unblocked.

Dated: October 4, 2011.
Adam J. Szubin,
Director, Office of Foreign Assets Control.

[FR Doc. 2011-26260 Filed 10-11-11; 8:45 am]

BILLING CODE 4810-AL-P